DEPARTMENT OF THE INTERIOR

National Park Service

[NPS-WASO-NRNHL-21474; PPWOCRADI0, PCU00RP14.R50000]

National Register of Historic Places; Notification of Pending Nominations and Related Actions

AGENCY: National Park Service, Interior.

ACTION: Notice.

SUMMARY: The National Park Service is soliciting comments on the significance of properties nominated before July 2, 2016, for listing or related actions in the National Register of Historic Places.

DATES: Comments should be submitted by August 10, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before July 2, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

San Benito County

Lyons, Harrison, Homestead Historic District, Address Restricted, Paicines, 16000521

San Bernardino County

Providence Townsite, 10.7 mi. off Essex Rd., Essex, 16000522

DISTRICT OF COLUMBIA

District of Columbia

Mount Vernon Seminary for Girls, 3801 Nebraska Ave. NW., Washington, 16000523

MICHIGAN

Kalamazoo County

Lee Paper Company Mill Complex, 300 W. Highway St., Vicksburg, 16000524

OHIO

Licking County

Dawes Arboretum, The, 7770 Jacksontown Rd. SE., Newark, 16000525

VERMONT

Windsor County

Marsh—Billings—Rockefeller National Historical Park, (Agricultural Resources of Vermont MPS) 54 Elm St., Woodstock, 16000526

VIRGINIA

Amherst County

Brightwells Mill Complex, 586 Brightwells Mill Rd., Madison Heights, 16000527

Frederick County

Thorndale Farm, 652 N. Buckton Rd., Middletown, 16000528

Goochland County

Belvidere, 4024 Pace Rd., Hadensville, 16000529

Lexington Independent City

Jordan's Point Historic District, Moses Mill Rd. & confluence of Maury R. & Woods Cr., Lexington (Independent City), 16000530

Loudoun County

Brown—Koerner House, 38340 Winsome Trail Ln., Purcellville, 16000531

Madison County

Belle Plaine, 2488 S. James Madison Hwy., Locust Dale, 16000532

Manassas Independent City

Manassas Water Tower, 9000 Quarry St., Manassas (Independent City), 16000533

Nelson County

South Rockfish Valley Rural Historic District, Rockfish Valley Hwy. & feeder roads, Nellysford, 16000534

Norfolk Independent City

Virginia National Bank Headquarters Historic District, Bounded by Commercial Place, Waterside Dr., E. Plume & Atlantic Sts., Norfolk (Independent City), 16000535

Richmond Independent City

American Tobacco Company, South Richmond Complex Historic District, (Tobacco Warehouses in Richmond, Virginia, 1874-1963 MPS) 400-800 Jefferson Davis Hwy., Richmond (Independent City), 16000536

Baker Public School, 100 W. Baker St., Richmond (Independent City), 16000537

Blair Tobacco Storage Warehouse Complex Historic District, (Tobacco Warehouses in Richmond, Virginia, 1874-1963 MPS) 2601 Maury St., Richmond (Independent City), 16000538

Southampton County

Courtland School, (Rosenwald Schools in Virginia MPS) 25499 Florence St., Courtland, 16000539

Tazewell County

Clynchdale, 146 Beartown Rd., Tazewell, 16000540

Tazewell Historic District (Boundary Increase), 100 blk. W. Fincastle Tnpk., 200-300 blks. W. Main & 300 blk. W. Pine Sts., Tazewell, 16000541

Authority: 60.13 of 36 CFR part 60.

Dated: July 5, 2016.
Christopher Hetzel,
Acting Chief, National Register of Historic Places/National Historic Landmarks Program.

[FR Doc. 2016-17595 Filed 7-25-16; 8:45 am]

BILLING CODE 4312-51-P